DEPARTMENT OF TRANSPORTATION

Coast Guard

[CGD08-00-018]

Galveston Causeway Railroad Bridge

AGENCY: Coast Guard, DOT.

ACTION: Notice of public hearing.

SUMMARY: The U. S. Coast Guard announces a forthcoming public hearing for the presentation of views concerning the alteration of the Galveston Causeway Railroad Bridge near Galveston, Texas.

DATES: The hearing will be held at 9:00 a.m., August 30, 2000.

ADDRESSES: (a) The hearing will be held in Room 175, of the Jadwin Building, 2000 Fort Point Road, Galveston Texas 77553.

(b) Written comments may be submitted to and will be available for examination from 8 a.m. to 4 p.m., Monday through Friday, except holidays, to Commander, Coast Guard District Eight, Bridge Branch, 1222 Spruce Street, St. Louis, Missouri 63103-2832.

FOR FURTHER INFORMATION CONTACT: Mr. Roger Wiebusch, Bridge Administrator, Bridge Branch, 1222 Spruce Street, St. Louis, Missouri 63103-2832, (314) 539-3900 ext. 378.

SUPPLEMENTARY INFORMATION: Complaints have been received alleging that the bridge is unreasonably obstructive to navigation. Information available to the Coast Guard indicates there were 99 marine collisions with the bridge between 1990 and 1999. These collisions have caused moderate to heavy damage to the bridge. Based on this information, the bridge appears to be an unreasonable obstruction to free navigation. This may require increasing the horizontal clearance on the bridge to meet the needs of navigation. All interested parties shall have full opportunity to be heard and to present evidence as to whether any alteration of this bridge is needed, and if so, what alterations are needed, giving due consideration to the necessities of free and unobstructed water navigation. The necessities of rail traffic will also be considered.

Any person who wishes, may appear and be heard at this public hearing. Persons planning to appear and be heard are requested to notify Commander, Coast Guard Eighth District, Bridge Branch, 1222 Spruce Street, St. Louis, Missouri 63103-2832, Telephone: 314-539-3900 ext. 378, any time prior to the hearing indicating the amount of time required. Depending upon the number of scheduled statements, it may be necessary to limit the amount of time allocated to each person. Any limitations of time allocated will be announced at the beginning of the hearing. Written statements and exhibits may be submitted in place of or in addition to oral statements and will be made a part of the hearing record. Such written statements and exhibits may be delivered at the hearing or mailed in advance to the Bridge Administrator, Bridge Branch. Transcripts of the hearing will be made available for purchase upon request.

Authority: 33 U.S.C. 513; 49 CFR 1.46(c)(3).

Dated: July 26, 2000.
Paul J. Pluta,
Rear Admiral, U.S. Coast Guard Commander, Eighth Coast Guard District.

[FR Doc. 00-19484 Filed 8-1-00; 8:45 am]

BILLING CODE 4910-15-U